DEPARTMENT OF HOMELAND SECURITY

Coast Guard

33 CFR Part 117

[Docket No. USCG-2015-0171]

Drawbridge Operation Regulation; Duwamish Waterway, Seattle, WA

AGENCY: Coast Guard, DHS.

ACTION: Notice of deviation from drawbridge regulation.

SUMMARY: The Coast Guard has issued a temporary deviation from the operating schedule that governs the South Park highway bridge across the Duwamish Waterway, mile 3.8, at Seattle, WA. The deviation is necessary to enable timely completion of drawbridge maintenance. This deviation allows the drawbridge to remain closed to mariners needing a full channel, double bascule leaf drawbridge opening. Vessels that only require a single leaf, half channel drawbridge opening, will be given such an opening upon signal.

DATES: This deviation is effective without actual notice from March 20, 2015 to 11:59 p.m. on March 28, 2015. For the purposes of enforcement, actual notice will be used from 12:01 a.m. on March 17, 2015, until March 20, 2015.

ADDRESSES: The docket for this deviation, [USCG-2015-0171] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven M. Fischer, Thirteenth Coast Guard District Bridge Administrator; telephone 206-220-7282, email: d13-pf-d13bridges@uscg.mil. If you have questions on viewing the docket, call Cheryl Collins, Program Manager, Docket Operations, telephone 202-366-9826.

SUPPLEMENTARY INFORMATION: The South Park highway bridge is a double bascule span drawbridge that requires under bridge maintenance. King County Road Services Division requested a deviation to the published drawbridge operation schedule to enable timely completion of the required bridge maintenance. The South Park highway bridge is located in the Duwamish Waterway, mile 3.8, at Seattle, WA, and provides 34.8 feet of vertical clearance at center span while in the closed position, 30 feet of vertical clearance at the extreme east and west ends of the navigable channel, and unlimited vertical clearance with half of the bascule bridge in the fully open position. Vertical clearances are referenced to mean high-water elevation (MHW). Horizontal clearance is 128 feet. However, horizontal clearance may be restricted by construction barges.

The normal operation schedule for the bridge is in 33 CFR 117.1041, which specifies that the draws of each bridge across the Duwamish Waterway shall open on signal, except the draw of the South Park highway bridge, mile 3.8, which need not be opened for the passage of vessels from 6:30 a.m. to 8:00 a.m. and 3:30 p.m. to 5:00 p.m., Monday through Friday, except Federal holidays.

The deviation period is effective from 12:01 a.m. on March 17, 2015 to 11:59 p.m. on March 28, 2015, and allows the drawbridge to remain closed to mariners needing a full channel double bascule opening. For mariners that only require a single leaf, half channel, drawbridge opening, such an opening will be given upon signal. A drawtender will be present 24 hours a day, 7 days week. To request a single leaf opening, mariners may utilize any of the following methods: (1) Via VHF maritime radio; (2) telephone; (3) one prolonged blast followed quickly by one short blast and one prolonged blast.

Waterborne traffic on this stretch of the Duwamish waterway consists of vessels ranging from small pleasure craft, sailboats, small tribal fishing boats, and commercial tug and tow, and mega yachts. Vessels able to pass under the bridge in the closed positions may do so at anytime, but are advised to use caution as the area surrounding the bridge has numerous construction craft and equipment occupying half of the navigational channel. The bridge will be able to open half of the bridge for emergencies, and there is no immediate alternate route for vessels to pass. The Coast Guard will also inform users of the waterway of the change in operating schedule for the bridge through our Local and Broadcast Notices to Mariners so that vessels can arrange their transits to minimize any impact caused by the temporary deviation.

In accordance with 33 CFR 117.35(e), the drawbridge must return to its regular operating schedule immediately at the end of the effective period of this temporary deviation. This deviation from the operating regulations is authorized under 33 CFR 117.35.

Dated: March 11, 2015.
Steven M. Fischer,
Bridge Administrator, Thirteenth Coast Guard District.

[FR Doc. 2015-06493 Filed 3-19-15; 8:45 am]

BILLING CODE 9110-04-P